DEPARTMENT OF HEALTH AND HUMAN SERVICES

Centers for Disease Control and Prevention

Board of Scientific Counselors, National Center for Injury Prevention and Control, (BSC, NCIPC); Amended Notice of Meeting

Notice is hereby given of a change in the meeting of the Board of Scientific Counselors, National Center for Injury Prevention and Control, (BSC, NCIPC); July 16, 2019, 4:30 p.m. to 5:30 p.m., EDT (CLOSED) and July 17, 2019, 9 a.m. to 5 p.m., EDT (OPEN). 4770 Buford Highway NE, Atlanta, GA 30341; Teleconference Number: 1-866-692-4541, Participant Code: 12365987 which was published in the Federal Register on May 16, 2019, Volume 84, Number 95, pages 22129—22130.

The amended meeting should read Day One: The agenda will focus on the secondary peer review of extramural research grant application received in response to one (1) Notice of Funding Opportunity (NOFO): RFA-CE-19-004, “Etiologic and Effectiveness Research to Address Polysubstance Impaired Driving”. The meeting on July 16, 2019 is closed to the public.

FOR FURTHER INFORMATION CONTACT: Gwendolyn H. Cattledge, Ph.D., M.S.E.H., Deputy Associate Director for Science, NCIPC, CDC, 4770 Buford Highway, NE, Mailstop F-63, Atlanta, GA 30341, Telephone (770) 488-3953, Email address: NCIPCBSC@cdc.gov.

The Chief Operating Officer, Centers for Disease Control and Prevention, has been delegated the authority to sign Federal Register notices pertaining to announcements of meetings and other committee management activities, for both the Centers for Disease Control and Prevention and the Agency for Toxic Substances and Disease Registry.

Sherri Berger,
Chief Operating Officer, Centers for Disease Control and Prevention.

[FR Doc. 2019-16540 Filed 8-1-19; 8:45 am]

BILLING CODE 4163-18-P